FEDERAL ENERGY REGULATORY COMMISSION

Notice of Meeting

May 8, 2002.

The following notice of meeting is published pursuant to Section 3(a) of the Government in the Sunshine Act (Pub. L. No. 94-409), 5 U.S.C. 552b:

AGENCY HOLDING MEETING: Federal Energy Regulatory Commission.

DATE AND TIME: May 15, 2002 (30 Minutes Following Regular Commission Meeting).

PLACE: Room 2C, 888 First Street, NE., Washington, DC 20426.

STATUS: Closed.

MATTERS TO BE CONSIDERED: Docket No. EL02-75-000, Duke Energy Trading and Marketing, L.L.C. v. Entergy Arkansas, Inc., Entergy Gulf States, Inc., Entergy Louisiana, Inc., Entergy Mississippi, Inc., Entergy New Orleans, Inc. and Entergy Services, Inc.

CONTACT PERSON FOR MORE INFORMATION: Magalie R. Salas, Secretary, Telephone (202) 208-0400.

Magalie R. Salas,
Secretary.

[FR Doc. 02-13473 Filed 5-28-02; 8:45 am]

BILLING CODE 6717-01-P